DEPARTMENT OF THE INTERIOR

National Park Service

Notice of Intent to Repatriate a Cultural Item in the Possession of the Peabody Museum of Archaeology and Ethnology, Harvard University, Cambridge, MA

AGENCY: National Park Service

ACTION: Notice

Notice is hereby given under the Native American Graves Protection and Repatriation Act (NAGPRA), 43 CFR 10.10 (a)(3), of the intent to repatriate a cultural item in the possession of the Peabody Museum of Archaeology and Ethnology, Cambridge, MA, that meets the definition of “unassociated funerary object” under Section 2 of the Act.

This notice is published as part of the National Park Service's administrative responsibilities under NAGPRA, 43 CFR 10.2 (c). The determinations within this notice are the sole responsibility of the museum, institution, or Federal agency that has control of this cultural item. The National Park Service is not responsible for the determinations within this notice.

The one cultural item is a buffalo horn spoon.

In 1880, the cultural item was collected in Montana by Ernest T. Jackson. In 1946, Patrick T. Jackson donated this cultural item to the Peabody Museum of Archaeology and Ethnology.

Museum records indicate that this cultural item was removed from a Crow grave in Montana. The specific cultural affiliation indicates that the collector was aware of the cultural affiliation of the burial, and suggests that it dates to historic times. Based on the specific cultural attribution in museum records, the probable 19th-century date of the burial, and the geographical location of origin within the historical territory of the Crow Tribe of Montana, this cultural item is considered to be affiliated with the Crow Tribe of Montana.

Based on the above-mentioned information, officials of the Peabody Museum of Archaeology and Ethnology have determined that, pursuant to 43 CFR 10.2 (d)(2)(ii), this cultural item is reasonably believed to have been placed with or near individual human remains at the time of death or later as part of the death rite or ceremony and is believed, by a preponderance of the evidence, to have been removed from a specific burial site of a Native American individual. Officials of the Peabody Museum of Archaeology and Ethnology also have determined that, pursuant to 43 CFR 10.2 (e), there is a relationship of shared group identity that can be reasonably traced between this cultural item and the Crow Tribe of Montana.

This notice has been sent to officials of the Crow Tribe of Montana. Representatives of any other Indian tribe that believes itself to be culturally affiliated with this unassociated funerary object should contact Barbara Isaac, Repatriation Coordinator, Peabody Museum of Archaeology and Ethnology, Harvard University, 11 Divinity Avenue, Cambridge, MA 02138, telephone (617) 495-2254, before March 22, 2001. Repatriation of this unassociated funerary object to the Crow Tribe of Montana may begin after that date if no additional claimants come forward.

Dated: January 30, 2001.
John Robbins,
Assistant Director, Cultural Resources Stewardship and Partnerships.

[FR Doc. 01-4081 Filed 2-16-01; 8:45 am]

BILLING CODE 4310-70-F